DEPARTMENT OF TRANSPORTATION

Federal Aviation Administration

14 CFR Part 39

[Docket No. FAA-2010-0829; Directorate Identifier 2010-NE-23-AD]

RIN 2120-AA64

Airworthiness Directives; Pratt & Whitney Canada Corp. (P&WC) PW305A and PW305B Turboprop Engines

AGENCY: Federal Aviation Administration (FAA), DOT.

ACTION: Notice of proposed rulemaking (NPRM).

SUMMARY: We propose to adopt a new airworthiness directive (AD) for the products listed above. This proposed AD results from mandatory continuing airworthiness information (MCAI) issued by an aviation authority of another country to identify and correct an unsafe condition on an aviation product. The MCAI describes the unsafe condition as: As a result of a change in the low-cycle fatigue lifing methodology for the IMI 834 material, the recommended service life of certain PW305A and PW305B Impellers has been reduced, as published in the Airworthiness Limitations (AWL) section of Engine Maintenance Manual (EMM). The in-service life of impellers P/N 30B2185, 30B2486 and 30B2858-01 has been reduced from 12,000 to 7,000 cycles; and of P/N 30B4565-01 from 8,500 to 7,000 cycles. We are proposing this AD to prevent failure of the impeller, which could result in an uncontained event and possible damage to the airplane.

DATES: We must receive comments on this proposed AD by October 4, 2010.

ADDRESSES: You may send comments by any of the following methods:

• Federal eRulemaking Portal: Go to http://www.regulations.gov and follow the instructions for sending your comments electronically.

• Mail: Docket Management Facility, U.S. Department of Transportation, 1200 New Jersey Avenue SE., West Building Ground Floor, Room W12-140, Washington, DC 20590-0001.

• Hand Delivery: Deliver to Mail address above between 9 a.m. and 5 p.m., Monday through Friday, except Federal holidays.

• Fax: (202) 493-2251.

Contact Pratt & Whitney Canada Corp., 1000 Marie-Victorin, Longueuil, Quebec, Canada, J4G 1A1; telephone 800-268-8000; fax 450-647-2888; Web site: www.pwc.ca, for the service information identified in this proposed AD.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (phone (800) 647-5527) is the same as the Mail address provided in the ADDRESSES section. Comments will be available in the AD docket shortly after receipt.

FOR FURTHER INFORMATION CONTACT: James Lawrence, Aerospace Engineer, Engine Certification Office, FAA, Engine & Propeller Directorate, 12 New England Executive Park, Burlington, MA 01803; e-mail: james.lawrence@faa.gov; phone: (781) 238-7176; fax: (781) 238-7199.

SUPPLEMENTARY INFORMATION:

Comments Invited

We invite you to send any written relevant data, views, or arguments about this proposed AD. Send your comments to an address listed under the ADDRESSES section. Include “Docket No. FAA-2010-0829; Directorate Identifier 2010-NE-23-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact with FAA personnel concerning this proposed AD. Using the search function of the Web site, anyone can find and read the comments in any of our dockets, including, if provided, the name of the individual who sent the comment (or signed the comment on behalf of an association, business, labor union, etc.). You may review the DOT's complete Privacy Act Statement in the Federal Register published on April 11, 2000 (65 FR 19477-78).

Discussion

Transport Canada, which is the aviation authority for Canada, has issued Canada Airworthiness Directive CF-2010-09, dated March 17, 2010, (referred to after this as “the MCAI”), to correct an unsafe condition for the specified products. The MCAI states:

As a result of a change in the low-cycle fatigue lifing methodology for the IMI 834 material, the recommended service life of certain PW305A and PW305B Impellers has been reduced, as published in the Airworthiness Limitations (AWL) section of Engine Maintenance Manual (EMM).

The in-service life of impellers P/N 30B2185, 30B2486 and 30B2858-01 has been reduced from 12,000 to 7,000 cycles; and of P/N 30B4565-01 from 8,500 to 7,000 cycles.

This Airworthiness Directive (AD) is issued to mandate the incorporation of the revised in-service life limits for the affected impellers, in the AWL section of EMM, as introduced by Temporary Revision (TR) AL-8.

Within 30 days from the effective date of this AD, update AWL section of your PW305 EMM P/N 30B1402, to incorporate TR AL-8 for compliance with the revised in-service limits for the affected Impellers, installed on PW305A and PW305B engine.

You may obtain further information by examining the MCAI in the AD docket.

Relevant Service Information

Pratt & Whitney Canada has issued Maintenance Manual Part Number 30B1402 Temporary Revision No. AL-8, dated January 20, 2010. The reduced cycle limits described in this service information are intended to correct the unsafe condition identified in the MCAI.

FAA's Determination and Requirements of This Proposed AD

This product has been approved by the aviation authority of Canada, and is approved for operation in the United States. Pursuant to our bilateral agreement with Canada, they have notified us of the unsafe condition described in the MCAI and service information referenced above. We are proposing this AD because we evaluated all information provided by Canada and determined the unsafe condition exists and is likely to exist or develop on other products of the same type design.

Costs of Compliance

Based on the service information, we estimate that this proposed AD would affect about 114 products of U.S. registry. We also estimate that it would take about 0 work-hours per product to comply with this proposed AD. The average labor rate is $85 per work-hour. Required parts would cost about $54,288 per product. Based on these figures, we estimate the cost of the proposed AD on U.S. operators to be $6,188,832. Our cost estimate is exclusive of possible warranty coverage.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Pratt & Whitney Canada Corp. (Formerly Pratt & Whitney Canada, Inc.): Docket No. FAA-2010-0829; Directorate Identifier 2010-NE-23-AD.

Comments Due Date

(a) We must receive comments by October 4, 2010.

Affected Airworthiness Directives (ADs)

(b) None.

Applicability

(c) This AD applies to Pratt & Whitney Canada Corp. (P&WC) PW305A and PW305B turboprop engines with certain impellers, part numbers (P/Ns) 30B2185, 30B2486, 30B2858-01, or 30B4565-01 installed. These engines are installed on, but not limited to, Hawker-Beech Corporation BAe.125 series 1000A, 1000B, and Hawker 1000 airplanes and Learjet Inc. Learjet 60 airplanes.

Reason

(d) This AD results from:

As a result of a change in the low-cycle fatigue lifing methodology for the IMI 834 material, the recommended service life of certain PW305A and PW305B Impellers has been reduced, as published in the Airworthiness Limitations (AWL) section of Engine Maintenance Manual (EMM).

The in-service life of impellers P/N 30B2185, 30B2486 and 30B2858-01 has been reduced from 12,000 to 7,000 cycles; and of P/N 30B4565-01 from 8,500 to 7,000 cycles.

We are issuing this AD to prevent failure of the impeller, which could result in an uncontained event and possible damage to the airplane.

Actions and Compliance

(e) Unless already done, do the following actions.

(f) Within 30 days from the effective date of this AD, update AWL section of your PW305 EMM P/N 30B1402, to incorporate Temporary Revision (TR) AL-8, dated January 20, 2010, for compliance with the revised in-service limits for the affected Impellers, installed on PW305A and PW305B engine.

FAA AD Differences

(g) None.

Other FAA AD Provisions

(h) The following provisions also apply to this AD:

(i) Alternative Methods of Compliance (AMOCs): The Manager, Engine Certification Office, FAA, has the authority to approve AMOCs for this AD, if requested using the procedures found in 14 CFR 39.19.

Related Information

(j) Refer to MCAI Transport Canada Airworthiness Directive CF-2010-09, dated March 17, 2010, and P&WC Temporary Revision No. AL-8, dated January 20, 2010, to P&WC EMM P/N 30B1402 for related information. Contact Pratt & Whitney Canada Corp., 1000 Marie-Victorin, Longueuil, Quebec, Canada, J4G 1A1; telephone (800) 268-8000; fax (450) 647-2888; or go to: http://www.pwc.ca, for a copy of this service information.

(k) Contact James Lawrence, Aerospace Engineer, Engine Certification Office, FAA, Engine & Propeller Directorate, 12 New England Executive Park, Burlington, MA 01803; e-mail: james.lawrence@faa.gov; phone: (781) 238-7176; fax: (781) 238-7199, for more information about this AD.

Issued in Burlington, Massachusetts, on August 13, 2010.
Francis A. Favara,
Manager, Engine and Propeller Directorate, Aircraft Certification Service.

[FR Doc. 2010-20561 Filed 8-18-10; 8:45 am]

BILLING CODE 4910-13-P